DEPARTMENT OF DEFENSE

48 CFR Part 252

[DFARS Case 2002-D019]

Defense Federal Acquisition Regulation Supplement; Transportation of Supplies by Sea—Commercial Items

AGENCY: Department of Defense (DoD).

ACTION: Final rule.

SUMMARY: DoD has issued a final rule amending the Defense Federal Acquisition Regulation Supplement (DFARS) to add an alternate version of a clause, pertaining to transportation of supplies by sea, to the list of clauses included in contracts for commercial items to implement statutes or Executive orders. The alternate version of the clause applies to contracts at or below the simplified acquisition threshold.

EFFECTIVE DATE: June 3, 2003.

FOR FURTHER INFORMATION CONTACT: Ms. Amy Williams, Defense Acquisition Regulations Council, OUSD(AT&L)DPAP(DAR), IMD 3C132, 3062 Defense Pentagon, Washington, DC 20301-3062. Telephone (703) 602-0328; facsimile (703) 602-0350. Please cite DFARS Case 2002-D019.

SUPPLEMENTARY INFORMATION:

A. Background

This rule corrects an oversight in the final rule published at 67 FR 38020 on May 31, 2002, under DFARS Case 2000-D014, Ocean Transportation by U.S.-Flag Vessels. That rule added requirements for contractors to use U.S.-flag vessels when transporting supplies by sea under contracts at or below the simplified acquisition threshold, in accordance with 10 U.S.C. 2631. The rule provided an Alternate III for use with the clause at DFARS 252.247-7023, Transportation of Supplies by Sea, in contracts at or below the simplified acquisition threshold, to minimize the information required from contractors under these contracts. This final rule adds Alternate III of 252.247-7023 to the list of clauses at 252.212-7001, Contract Terms and Conditions Required to Implement Statutes or Executive Orders Applicable to Defense Acquisitions of Commercial Items, as it was inadvertently omitted from the previous DFARS rule.

DoD published a proposed rule at 67 FR 65528 on October 25, 2002. DoD received no comments on the proposed rule and, therefore, is adopting the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because most entities providing ocean transportation of freight are not small businesses, and the rule minimizes the information required from contractors under contracts valued at or below the simplified acquisition threshold.

C. Paperwork Reduction Act

The information collection requirements in this rule have been approved by the Office of Management and Budget, under Clearance Number 0704-0245, for use through July 31, 2004.

List of Subjects in 48 CFR Part 252

Government procurement.

Michele P. Peterson,
Executive Editor, Defense Acquisition Regulations Council.

Therefore, 48 CFR Part 252 is amended as follows:

1. The authority citation for 48 CFR Part 252 continues to read as follows:

Authority: 41 U.S.C. 421 and 48 CFR Chapter 1.

PART 252—SOLICITATION PROVISIONS AND CONTRACT CLAUSES

2. Section 252.212-7001 is amended as follows:

a. By revising the clause date to read “(JUN 2003)”; and

b. In paragraph (b), by revising entry “252.247-7023” to read as follows:

252.212-7001 Contract Terms and Conditions Required to Implement Statutes or Executive Orders Applicable to Defense Acquisitions of Commercial Items.

* * * * *

(b) * * *

___252.247-7023 Transportation of Supplies by Sea (MAY 2002) (Alternate I) (MAR 2000) (Alternate II) (MAR 2000) (Alternate III) (MAY 2002) (10 U.S.C. 2631).

* * * * *

[FR Doc. 03-13535 Filed 6-2-03; 8:45 am]

BILLING CODE 5001-08-P